FEDERAL DEPOSIT INSURANCE CORPORATION

Sunshine Act Meetings; Notice of a Matter To Be Deferred From the Agenda for Consideration at an Agency Meeting

FEDERAL REGISTER CITATION OF PREVIOUS ANNOUNCEMENT: The previously announced meeting agenda of the Board of Directors, published at 86 FR 37752, has changed.

PREVIOUSLY ANNOUNCED TIME AND DATE OF THE MEETING: Tuesday, July 20, 2021, at 10:00 a.m.

CHANGES IN THE MEETING: Pursuant to the provisions of the “Government in the Sunshine Act” (5 U.S.C. 552b), notice is hereby given that the following matter will be deferred from the Summary Agenda at the open meeting of the Board of Directors of the Federal Deposit Insurance Corporation scheduled to be held at 10:00 a.m. on July 20, 2021, via a Webcast live on the internet:

Memorandum and resolution re: Notice of Proposed Rulemaking on Revisions to Standardized Approach for Calculating the Exposure Amount of Derivative Contracts.

CONTACT PERSON FOR MORE INFORMATION: Requests for further information concerning the meeting may be directed to Debra A. Decker, Deputy Executive Secretary of the Corporation, at (202) 898-8748.

Federal Deposit Insurance Corporation.
Dated at Washington, DC, on July 19, 2021.
James P. Sheesley,
Assistant Executive Secretary.

[FR Doc. 2021-15672 Filed 7-20-21; 11:15 am]

BILLING CODE 6714-01-P